DEPARTMENT OF HEALTH AND HUMAN SERVICES

Health Resources and Services Administration

Notice of Single Source Award Based on Non-Statutory Earmark to the Delta Region Community Health Systems Development Program

AGENCY: Health Resources and Services Administration (HRSA), Department of Health and Human Services.

ACTION: Notice.

SUMMARY: The purpose of the Delta Region Community Health Systems Development program is to support collaboration with and input from the Delta Regional Authority to develop a pilot program to help underserved rural communities in the Delta region identify and better address their health care needs and to help small rural hospitals improve their financial and operational performance. The Federal Office of Rural Health Policy (FORHP), Fiscal Year (FY) 2019 appropriations increased the funding line that supports the Delta Region Community Health Systems Development program by $4,000,000. This increases the overall FY 2019 award for the Delta program from $4,000,000 to $8,000,000. The current award recipient has a need for additional funds to support activities performed under the scope of this program. The current award recipient will use a multipronged approach to deliver phased-in technical assistance (TA), in an effort to provide intensive assistance to all eight Delta Region communities.

ADDRESSES: Further information on the Delta Region Community Health Systems Development Program is available at: https://www.hrsa.gov/ruralhealth/programopportunities/fundingopportunities/?id=8d869eff-0bca-4703-a821-88a9f0433b73.

FOR FURTHER INFORMATION CONTACT: Rachel Moscato, Program Coordinator, Delta Region Community Health Systems Development, FORHP, HRSA, RMoscato@hrsa.gov, (301) 443-0385.

SUPPLEMENTARY INFORMATION:

Background

The Delta Region Community Health Systems Development program is authorized by Section 711(b) of the Social Security Act, (42 U.S.C. 912 (b)), as amended.

The Delta Region Community Health Systems Development program was announced under HRSA Funding Opportunity Announcement Number HRSA-17-117. In FY 2017, HRSA funded this program at up to $2,000,000 per year, to one awardee, the Rural Health Resource Center, for a period of performance of up-to three years. In FY 2018, the House Report 115-244 and Senate Report 115-150 for Division H of the Consolidated Appropriations Act of 2018 (Pub. L. 115-141) provided an additional $2,000,000 in funding to the Delta program line. This resulted in an increase in appropriations to $4,000,000 per year in FY 2018.

The FY 2019, House Report 115-244 and Senate Report 115-150 for Division H of the Consolidated Appropriations Act of 2019 (Pub. L. 115-141) provided an additional $4,000,000 in funding to the Delta program line. For FY 2019, HRSA will increase the maximum funding per year for the Delta Region Community Health Systems Development to $8,000,000 per year for one award recipient. This program started on September 30, 2017, and ends on September 29, 2020.

Conclusion

HRSA believes that the current award recipient needs a higher level of funding to better assist small rural hospitals improve their financial and operational performance. In addition, the current award recipient will be expected to develop and implement a multipronged approach to deliver phased-in TA in an effort to provide intensive assistance to all eight Delta Region communities.

Dated: March 13, 2019.
George Sigounas,
Administrator.

[FR Doc. 2019-05045 Filed 3-18-19; 8:45 am]

BILLING CODE 4165-15-P